DEPARTMENT OF DEFENSE

Department of the Army, Army Corps of Engineers

Intent To Prepare a Joint Supplemental Environmental Impact Statement and Environmental Impact Report for Sacramento River East Levee and Natomas Cross Canal Levee Modifications as a Feature of the American River (Common Features), CA Project

AGENCY: Department of the Army, U.S. Army Corps of Engineers, DoD.

ACTION: Notice of intent.

SUMMARY: The action being taken is preparation of a Supplemental Environmental Impact Statement and Environmental Impact Report (SEIS/EIR) to address potential improvements to the existing flood control systems. The American River (Common Features) project is located in Sacramento and Sutter Counties. The U.S. Army Corps of Engineers (Corps) is currently completing slurry wall work on approximately 20 miles of levee along the lower American River. In 1996 and 1999, Congress authorized modification of 12 miles of Sacramento River east levees and 5 miles of Natomas Cross Canal north and south levees in the Natomas basin area. Since that time engineering studies have shown that an additional 6 miles of levee improvements along the Sacramento River east levee are required for a total of about 18 miles from the mouth of the Natomas Cross Canal to Natomas Main Drain.

FOR FURTHER INFORMATION CONTACT: Questions about the proposed action and SEIS/EIR should be addressed to Liz Holland at (916) 557-6763 or by mail to U.S. Army Corps of Engineers, ATTN CESPK-PD-R, 1325 J Street, Sacramento, CA 95814-2922.

SUPPLEMENTARY INFORMATION:

1. Proposed Action

The Corps, in partnership with the State of California, Reclamation Board and the Sacramento Area Flood Control Agency are conducting a study on modifying the levees in the Natomas Basin area, which will be documented in the SEIS/EIR. The study focuses on ways to improve flood protection to portions of the City and County of Sacramento and Sutter County lying within the Natomas Basin.

2. Alternatives

The SEIS/EIR will address an array of flood control improvement alternatives. Alternatives analyzed during the investigation will include a combination of one or more flood protection measures. These measures include levee raising, seepage berms, seepage wells, and slurry walls.

3. Scoping Process

a. The project study plan provides for a series of public scoping meetings to present information to the public and to receive comments from the public. The Corps has initiated a process to involve concerned individuals, and local, State, and Federal agencies.

b. Significant issues to be analyzed in depth in the SEIS/EIR include: Adverse effects on vegetation and wildlife resources; special-status species; esthetics; cultural resources; recreation; land use; fisheries; water quality; air quality; transportation and socioeconomics; and cumulative effects of related projects in the study area.

c. The Corps will consult with the State Historic Preservation Officer to comply with the National Historic Preservation Act, and the U.S. Fish and Wildlife Service to provide a Fish and Wildlife Coordination Act Report as an appendix to the SEIS/EIR.

d. A 30-day public review period will be provided for individuals and agencies to review and comment on the draft SEIS/EIR. All interested parties are encouraged to respond to this notice and provide a current address if they wish to be notified of the SEIS/EIR circulation.

4. Public Scoping Meeting

A series of public scoping meetings will be held from 6-8 p.m. on the following dates: July 25, 2002, South Natomas Community Center, July 30, 2002, Teal Bend Golf Course; and July 31, 2002, Holt of California Conference Room.

5. Availability

The draft SEIS/EIR is scheduled to be available for public review and comment in the summer of 2003.

Luz D. Ortiz,
Army Federal Register Liaison Officer.

[FR Doc. 02-17471 Filed 7-10-02; 8:45 am]

BILLING CODE 3710-EZ-M